DEPARTMENT OF COMMERCE

Foreign-Trade Zones Board

[Docket T-4-2008]

Foreign-Trade Zone 267-Fargo, ND; Application for Temporary/Interim Manufacturing Authority; CNH America, LLC (Construction Equipment)

An application has been submitted to the Executive Secretary of the Foreign Trade Zones Board (the Board) by the Fargo Municipal Airport Authority, grantee of FTZ 267, requesting temporary/interim manufacturing (T/IM) authority within FTZ 267 at the CNH America, LLC (CNH) construction equipment manufacturing facility located in Fargo, North Dakota. The application was filed on September 30, 2008.

The CNH facilities (about 800 employees) consist of a manufacturing plant located at 3401 1st Avenue N. and a warehouse located at 3000 Avenue N., within the Midtown Industrial Complex (FTZ 267-Site 2). Under T/IM procedures, CNH could produce up to 4,000 wheel loaders annually (HTSUS 8429.51). Foreign-sourced components (representing about 30% of material value) that would be used in production include: Vehicle glass (HTSUS 7007.11), motor controls (8537.10), switches (8536.50), and transmissions (8483.40). T/IM authority could be granted for a period of up to two years. CNH has also submitted a request for permanent FTZ manufacturing authority (for which Board filing is pending), which also includes the assembly of farm tractors using similar foreign-sourced inputs.

FTZ procedures would exempt CNH from customs duty payments on foreign components used in export production (estimated to be some 30 percent of the plant's shipments). On its domestic shipments, CNH could defer duty until the products are entered for consumption, and choose the duty-free rate that applies to the finished product for the foreign components used in production (duty rates ranging from 2.5% to 5.5%). The company may also realize certain logistical/procedural savings as well as savings on materials that become scrap/waste during manufacturing.

Public comment is invited from interested parties. Submissions shall be addressed to the Board's Executive Secretary at the following address: Office of the Executive Secretary, Foreign-Trade Zones Board, Room 2111, U.S. Department of Commerce, 1401 Constitution Avenue, NW., Washington, DC 20230-0002. The closing period for their receipt is November 10, 2008. A copy of the application will be available for public inspection at the Office of the Foreign-Trade Zones Board's Executive Secretary at the address listed above.

Dated: September 30, 2008.
Andrew McGilvray,
Executive Secretary.

[FR Doc. E8-23889 Filed 10-9-08; 8:45 am]

BILLING CODE 3510-DS-P